DEPARTMENT OF DEFENSE

Department of the Air Force

Scientific Advisory Board

AGENCY: Department of the Air Force, DoD.

ACTION: Notice of closed meeting.

SUMMARY: The Aerospace Command and Control will meet Langley Air Force Base. The purpose of this meeting is to allow the Advisory Group to learn and provide feedback on specific issues relating to the AC2ISRC. The meeting will be closed to the public in accordance with Section 552b of Title 5, United States Code, specifically subparagraphs (10) and (4) thereof.

DATES: 13-14 March, 2002.

ADDRESSES: Langley Air Force Base, VA.

FOR FURTHER INFORMATION CONTACT: HQ USAF Scientific Advisory Board Secretariat, (703) 697-4811.

Pamela D. Fitzgerald,
Air Force Federal Register Liaison Officer.

[FR Doc. 02-5941 Filed 3-12-02; 8:45 am]

BILLING CODE 5001-05-U